DEPARTMENT OF ENERGY

Federal Energy Regulatory Commission

[Docket No. RP94-72-012]

Iroquois Gas Transmission System, L.P.; Notice of Proposed Changes in FERC Gas Tariff

March 29, 2000.

Take notice that on March 24, 2000, Iroquois Gas Transmission System, L.P. (Iroquois, tendered for filing the following revised tariff sheets to its FERC Gas Tariff, First Revised Volume No. 1, with a proposed effective date of March 24, 2000.

Twenty-Seventh Revised Sheet No. 4

Original Sheet No. 4A

Ninth Revised Sheet No. 5

Fourth Revised Sheet No. 14

Fourth Revised Sheet No. 15

Fourth Revised Sheet No. 29

Fifth Revised Sheet No. 30

Second Revised Sheet No. 75B

Third Revised Sheet No. 75C

Iroquois asserts that the filing is in compliance with the Commission's order issued in the captioned proceedings on February 10, 2000, approving an offer of settlement which was filed on December 17, 1999.

Iroquois states that copies of its filing were served on all jurisdictional customers, interested state commissions and all parties in Docket Nos. RP94-72, FA92-59 and RP97-126.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-8272 Filed 4-3-00; 8:45 am]

BILLING CODE 6717-01-M